DEPARTMENT OF THE TREASURY

Internal Revenue Service

Privacy Act of 1974; Systems of Records

AGENCY: Internal Revenue Service, Treasury.

ACTION: Notice of proposed alterations to seven Internal Revenue Service Privacy Act systems of records.

SUMMARY: In accordance with the requirements of the Privacy Act of 1974, the Department of the Treasury, Internal Revenue Service, is proposing to add a routine use to seven of its existing systems of records.

DATES: Comments must be received no later than September 25, 2003. The alteration to the systems of records will be effective October 6, 2003, unless the IRS receives comments, which would result in a contrary determination.

ADDRESSES: Comments should be sent to the Office of Governmental Liaison & Disclosure, Internal Revenue Service, 1111 Constitution Avenue, NW., Washington, DC 20224. Comments will be made available for public inspection and copying in the Internal Revenue Service Freedom of Information Reading Room, 1111 Constitution Avenue, NW., Room 1621, Washington, DC 20224, telephone number (202) 622-5164, (not a toll-free call).

FOR FURTHER INFORMATION CONTACT: Greg Rehak, Management Controls Coordinator, Agency-Wide Shared Services, Internal Revenue Service, 1111 Constitution Avenue, NW., Washington, DC 20224, (202) 622-3702 (not a toll-free number).

SUPPLEMENTARY INFORMATION: The Internal Revenue Service (IRS) is adding a routine use to the following systems of records: Treasury/IRS 36.001-Appeals, Grievances and Complaints Records; Treasury/IRS 36.002-Employee Activity Records; Treasury/IRS 36.003-General Personnel and Payroll Records; Treasury/IRS 36.005-Medical Records; Treasury/IRS 36.008-Recruiting, Examining and Placement Records; Treasury/IRS 36.009-Retirement, Life Insurance and Health Benefits Records, and Treasury/IRS 38.001-General Training Records.

In keeping with the Government's policy to rely on commercial sources to supply products and services the Government needs, the IRS on occasion retains the services of contractors to perform routine functions relating to personnel administration. The disclosure of information maintained in IRS’ systems of records may be required in order for the contractor to perform the services for which it has been hired. If a disclosure is necessary, the contractor to which the disclosure is made will be subject to the same limitations applicable to IRS officers and employees under the Privacy Act.

In addition, the IRS will be following OMB Guidelines under which government agencies have been directed to become more efficient while sustaining service to customers by using competitive sourcing.

The system notices were last published in their entirety in the Federal Register, December 10, 2001 (Volume 66, Number 237) pp. 63819-63835.

The report of altered systems of records, as required by 5 U.S.C. 552a(r) of the Privacy Act, has been submitted to the Committee on Government Reform of the House of Representatives, the Committee on Governmental Affairs of the Senate, and the Office of Management and Budget, pursuant to Appendix I to OMB Circular A-130, “Federal Agency Responsibilities for Maintaining Records About Individuals,” dated November 30, 2000.

For reasons set forth above, IRS proposes to alter seven systems of records as follows:

TREASURY/IRS 36.001

System name:

Appeals Grievances and Complaint Files-Treasury/Internal Revenue Service.

* * * * *

Routine uses of records maintained in the system, including categories of users and the purposes of such uses:

* * * * *

Description of changes: The period “.” at the end of routine use 10 is replaced with a semicolon “;”, and the following routine use is added at the end thereof:

“(11) disclose records to agency contractors who need to have access to the records in order to perform the services required by the contract. Recipients must comply with the requirements of the Privacy Act of 1974, as amended, 5 U.S.C. 552a.”

* * * * *

Treasury/IRS 36.002

System name:

Employee Activity Records-Treasury/Internal Revenue Service.

* * * * *

Routine uses of records maintained in the system, including categories of users and the purposes of such uses:

* * * * *

Description of changes: The period “.” at the end of routine use 5 is replaced with a semicolon “;”, and the following routine use is added at the end thereof:

“(6) disclose records to agency contractors who need to have access to the records in order to perform the services required by the contract. Recipients must comply with the requirements of the Privacy Act of 1974, as amended, 5 U.S.C. 552a.”

* * * * *

Treasury/IRS 36.003

System Name:

General Personnel and Payroll Records-Treasury/Internal Revenue Service.

* * * * *

Routine uses of records maintained in the system, including categories of users and the purposes of such uses:

* * * * *

Description of changes: The period “.” at the end of routine use 22 is replaced with a semicolon “;”, and the following routine use is added at the end thereof:

“(23) disclose records to agency contractors who need to have access to the records in order to perform the services required by the contract. Recipients must comply with the requirements of the Privacy Act of 1974, as amended, 5 U.S.C. 552a.”

* * * * *

Treasury/IRS 36.005

System Name:

Medical Records-Treasury/Internal Revenue Service.

* * * * *

Routine uses of records maintained in the system, including categories of users and the purposes of such uses:

* * * * *

Description of changes: The period “.” at the end of routine use 15 is replaced with a semicolon “;”, and the following routine use is added at the end thereof:

“(16) disclose records to agency contractors who need to have access to the records in order to perform the services required by the contract. Recipients must comply with the requirements of the Privacy Act of 1974, as amended, 5 U.S.C. 552a.”

* * * * *

Treasury/IRS 36.008

System Name:

Recruiting, Examining and Placement Records-Treasury/Internal Revenue Service.

* * * * *

Routine uses of records maintained in the system, including categories of users and the purposes of such uses:

* * * * *

Description of changes: The period “.” at the end of routine use 12 is replaced with a semicolon “;”, and the following routine use is added at the end thereof:

“(13) disclose records to agency contractors who need to have access to the records in order to perform the services required by the contract. Recipients must comply with the requirements of the Privacy Act of 1974, as amended, 5 U.S.C. 552a.”

* * * * *

Treasury/IRS 36.009

System Name:

Retirement, Life Insurance and Health Benefits Records System-Treasury/Internal Revenue Service.

* * * * *

Routine uses of records maintained in the system, including categories of users and the purposes of such uses:

* * * * *

Description of changes: The period “.” at the end of routine use 14 is replaced with a semicolon “;”, and the following routine use is added at the end thereof:

“(15) disclose records to agency contractors who need to have access to the records in order to perform the services required by the contract. Recipients must comply with the requirements of the Privacy Act of 1974, as amended, 5 U.S.C. 552a.”

* * * * *

Treasury/IRS 38.001

System name:

General Training Records-Treasury/Internal Revenue Service.

* * * * *

Routine uses of records maintained in the system, including categories of users and the purposes of such uses:

* * * * *

Description of changes: The period “.” at the end of routine use 3 is replaced with a semicolon “;”, and the following routine use is added at the end thereof:

“(4) disclose records to agency contractors who need to have access to the records in order to perform the services required by the contract. Recipients must comply with the requirements of the Privacy Act of 1974, as amended, 5 U.S.C. 552a.”

* * * * *

Dated: August 19, 2003.
W. Earl Wright Jr.,
Acting Chief Management and Administrative Programs Officer.

[FR Doc. 03-21800 Filed 8-25-03; 8:45 am]

BILLING CODE 4830-01-P